DEPARTMENT OF TRANSPORTATION

Federal Railroad Administration

[Safety Advisory 2013-08]

Operational Tests and Inspections for Compliance With Maximum Authorized Train Speeds and Other Speed Restrictions

AGENCY: Federal Railroad Administration (FRA), Department of Transportation (DOT).

ACTION: Notice of safety advisory; Operational tests and inspections for compliance with maximum authorized train speeds and other speed restrictions.

SUMMARY: FRA is issuing Safety Advisory 2013-08 to stress to railroads and their employees the importance of compliance with Federal regulations and applicable railroad operating rules regarding maximum authorized train speed limits and any relevant speed restrictions. This safety advisory contains five recommendations to railroads to ensure that compliance with maximum authorized speeds and other speed restrictions are addressed by appropriate railroad operating policies and procedures and to ensure that those policies and procedures are effectively implemented.

FOR FURTHER INFORMATION CONTACT: Thomas Herrmann, Acting Director, Office of Safety Assurance and Compliance, Office of Railroad Safety, FRA, 1200 New Jersey Avenue SE, Washington, DC 20590, telephone (202) 493-6037.

SUPPLEMENTARY INFORMATION: The overall safety of railroad operations has improved in recent years. However, the recent fatal accident in Spuyten Duyvil, Bronx, New York, which is the subject of FRA's Emergency Order No. 29, highlights the need to ensure that speed restrictions mandated by Federal regulation and those imposed by a railroad's own operating rules are adhered to. That accident also demonstrates the importance of operational testing that pertains to ensuring employee compliance with applicable speed limitations and restrictions.

Metro-North Spuyten Duyvil Derailment

On Sunday, December 1, 2013, Metro-North passenger train 8808 (Train 8808) was traveling south from Poughkeepsie, New York, to Grand Central Terminal in New York City when, at approximately 7:20 a.m., the train derailed as it approached the Spuyten Duyvil Station. The train consisted of seven passenger coach cars, including a control cab locomotive in the lead position, and a conventional locomotive at the rear of the train, operating in a push-pull configuration (a control cab locomotive is both a passenger car, in that it has seats for passengers, and a locomotive, in that it has a control cab from which the engineer can operate the train). Each of the seven cars derailed along with the trailing locomotive. As of December 6, the derailment has resulted in four fatalities and more than 60 reported injuries.

As is customary, the National Transportation Safety Board (NTSB) has taken the lead role in conducting the investigation of this accident pursuant to its legal authority. 49 U.S.C. 1101 et seq.; 49 CFR 800.3(a), 831.2(b). FRA is also investigating the accident. As Train 8808 approached the Spuyten Duyvil Station from the north, it traveled over a straightaway with a maximum authorized passenger train speed of 70 mph before reaching a sharp curve in the track where, by the railroad's own rules, the maximum authorized speed was reduced to 30 mph. A preliminary review of the information on the locomotive event recorders by NTSB indicates that the train was traveling approximately 82 mph as it entered the curve's 30-mph speed restriction. This means Train 8808 was exceeding the maximum authorized speed on the straightaway by 12 mph and traveling nearly three times the railroad's maximum authorized speed as it entered the curve. Information obtained from the train's event recorders also indicates that approximately six seconds before the locomotive came to a stop, the locomotive throttle was placed in idle and an application of the train's brake system was made.

FRA's accident statistics reveal that the railroad industry's recent safety record with regard to this area of compliance on main tracks is good, but FRA believes the December 1 accident highlights the need to remain vigilant in ensuring employee compliance with operational speed limits and restrictions for trains and locomotives. As such, FRA intends to focus its inspections on railroad operational testing activity over the next several months on compliance with maximum authorized train speeds and relevant speed restrictions. FRA strongly encourages railroads and other industry members to re-emphasize the importance of compliance with maximum authorized train speeds and any applicable speed restrictions, and to conduct operational testing at a level that will ensure compliance with all posted speed restrictions.

Recommended Railroad Action: In light of the recent accident discussed above, and in an effort to ensure the safety of the Nation's railroads, their employees, and the general public, FRA recommends that railroads do each of the following:

(1) Review the circumstances of the December 1, 2013, Spuyten Duyvil derailment with each of their operating employees.

(2) Provide instruction to their employees during training classes and safety briefings on the importance of compliance with maximum authorized train speed limits and other speed restrictions. This training should include discussion of the railroad's absolute speed limits, speed restrictions based on physical characteristics, temporary speed restrictions, and any other restrictions commonly encountered.

(3) Remind their employees that Federal railroad safety regulation, at 49 CFR 240.305(a)(2) and 242.403(e)(2), prohibits the operation of a locomotive or train at a speed which exceeds the maximum authorized speed by at least 10 mph.

(4) Evaluate quarterly and 6-month reviews of operational testing data as required by 49 CFR 217.9. A railroad should consider increasing the frequency of operational testing where its reviews show any non-compliance with maximum authorized train speeds. A significant number of operational tests should be conducted on trains that are required to reduce speed by more than 20 mph from the maximum authorized train speed. Operational tests should use the reliable methods available, such as reviewing locomotive event recorder data and testing by radar to verify compliance with maximum authorized speeds.

(5) Reinforce the importance of communication between train crewmembers located in the controlling locomotive, particularly during safety critical periods when multiple tasks are occurring (e.g., copying mandatory directives, closely approaching or passing fixed signals and/or cab signals at a reduced speed, approaching locations where the train's movement authority is being restricted, during radio conversations with other employees or job briefings about track characteristics) and during extended periods of inactivity.

FRA encourages all railroad industry members to take actions consistent with the preceding recommendations. FRA may modify this Safety Advisory 2013-08, issue additional safety advisories, or take other appropriate action necessary to ensure the highest level of safety on the Nation's railroads, including pursing other corrective measures under its rail safety authority.

Issued in Washington, DC on December 10, 2013.
Robert C. Lauby,
Associate Administrator for Railroad Safety and Chief Safety Officer.

[FR Doc. 2013-29762 Filed 12-13-13; 8:45 am]

BILLING CODE 4910-06-P